SMALL BUSINESS ADMINISTRATION

National Advisory Council; Public Meeting

The U.S. Small Business Administration's National Advisory Council will be hosting a public meeting to discuss such matters that may be presented by members, and staff of the U.S. Small Business Administration, or others present. The meeting will be held on Tuesday, April 26, 2005, starting at 8 a.m. until 6:30 p.m. The meeting will be held at the Hilton Washington Hotel, 1919 Connecticut Avenue, NW., Washington, DC 20009.

Anyone wishing to attend must contact Balbina Caldwell in writing or fax. Balbina Caldwell, Director, National Advisory Council, 409 3rd Street, SW., Washington, DC 20416, telephone: (202) 205-6914, fax: (202) 481-4678.

Matthew K. Becker,
Committee Management Officer.

[FR Doc. 05-6573 Filed 4-1-05; 8:45 am]

BILLING CODE 8025-01-P